DEPARTMENT OF ENERGY

Federal Energy Regulatory Commission

[Docket No. EC00-67-000, et al.]

Louisville Gas and Electric Company, et al.; Electric Rate and Corporate Regulation Filings

May 5, 2000.

Take notice that the following filings have been made with the Commission:

1. Louisville Gas and Electric Company and Kentucky Utilities Company

[Docket No. EC00-67-000]

Take notice that on April 28, 2000, Louisville Gas and Electric Company submitted Form U-1 filed on April 26, 2000 with the Securities and Exchange Commission, pursuant to the commitment made in the Section 203 application previously filed in the above docket.

Comment date: May 23, 2000, in accordance with Standard Paragraph E at the end of this notice.

2. Midwest Generation, LLC

[Docket No. EC00-81-000]

Take notice that on May 4, 2000, Midwest Generation, LLC (Applicant), filed an amendment to its application that was filed in this docket on April 20, 2000. The application sought Commission approval for the transfer of transformers and interconnection facilities associated with 71 peaking generators being financed pursuant to a sale/leaseback arrangement.

In its application, Applicant advised the Commission that, after Applicant transfers certain jurisdictional facilities to a proposed Lessor, the Lessor will simultaneously lease the facilities to Applicant's parent company, Edison Mission Energy, or to another subsidiary of Edison Mission Energy, which will then sublease the facilities back to Applicant. The parties no longer intend to include a lessee/sublessor in the arrangements. Instead, the Lessor will lease back the facilities directly to Applicant.

Comment date: May 22, 2000, in accordance with Standard Paragraph E at the end of this notice.

3. Wisconsin Public Service Corporation and Upper Peninsula Power Company

[Docket No. EC00-84-000]

Take notice that on April 28, 2000, Wisconsin Public Service Corporation (WPSC) and Upper Peninsula Power Corporation (UPPCo) (collectively, the Applicants) on April 28, 2000, tendered for filing an application pursuant to Section 203 of the Federal Power Act, 16 U.S.C. 824b, to transfer operational control over substantial portions of their transmission facilities to the Midwest Independent Transmission System Operator, Inc. (Midwest ISO). The Applicants intend to become members of the Midwest ISO on June 30, 2000 and have asked for an order authorizing this transfer prior to the date.

Copies of the filing were served upon the Applicants' transmission service customers, the members of the Midwest ISO and the state regulatory commissions of Indiana, Illinois, Kentucky, Michigan, Ohio and Wisconsin.

Comment date: May 30, 2000, in accordance with Standard Paragraph E at the end of this notice.

4. Atlantic City Electric Company

[Docket No. ER97-3189-027]

Take notice that on May 1, 2000, Atlantic City Electric Company tendered for filing with the Federal Energy Regulatory Commission (Commission), a letter in compliance with the Commission's order in Allegheny Power Service Co., et al., 90 FERC ¶ 61,224 (2000).

Comment date: June 5, 2000, in accordance with Standard Paragraph E at the end of this notice.

5. Pacific Gas and Electric Company

[Docket Nos. OA96-28-004, and OA97-619-001]

Take notice that on May 1, 2000, Pacific Gas and Electric Company tendered for filing with the Federal Energy Regulatory Commission (Commission), a letter in compliance with the Commission's order in Allegheny Power Service Co., et al., 90 FERC ¶ 61,224 (2000).

Comment date: June 5, 2000, in accordance with Standard Paragraph E at the end of this notice.

6. Central Maine Power Company

[Docket Nos. OA96-124-001 and OA97-266-001]

Take notice that on May 1, 2000 Central Maine Power Company tendered for filing with the Federal Energy Regulatory Commission (Commission), a report in compliance with the Commission's order in Allegheny Power Service Co., et al., 90 FERC ¶ 61,224 (2000).

Comment date: June 5, 2000, in accordance with Standard Paragraph E at the end of this notice.

7. Allegheny Energy Service Corporation, on Behalf of Monongahela Power Company, The Potomac Edison Company, and West Penn Power Company, d/b/a Allegheny Power

[Docket Nos. OA97-122-001 and OA97-712-001]

Take notice that on April 27, 2000, Allegheny Energy Service Corporation, on behalf of Monongahela Power Company, The Potomac Edison Company, and West Penn Power Company, d/b/a Allegheny Power tendered for filing with the Federal Energy Regulatory Commission (Commission), a report in compliance with the Commission's order in Allegheny Power Service Co., et al., 90 FERC ¶ 61,224 (2000).

Comment date: June 5, 2000, in accordance with Standard Paragraph E at the end of this notice.

8. Consumers Energy Company

[Docket No. OA97-259-001]

Take notice that on May 1, 2000, Consumers Energy Company (CECo) tendered for filing with the Federal Energy Regulatory Commission (Commission), a letter in compliance with the Commission's order in Allegheny Power Service Co., et al., 90 FERC ¶ 61,224 (2000).

Copies of the filing have been served on the Michigan Public Service Commission and counsel for intervenors in this docket.

Comment date: June 5, 2000, in accordance with Standard Paragraph E at the end of this notice.

9. Florida Power Corporation

[Docket No. OA97-677-001]

Take notice that on April 28, 2000, Florida Power Corporation tendered for filing with the Federal Energy Regulatory Commission (Commission), a letter in compliance with the Commission's order in Allegheny Power Service Co., et al., 90 FERC ¶ 61,224 (2000).

Comment date: June 5, 2000, in accordance with Standard Paragraph E at the end of this notice.

10. The FirstEnergy Operating Companies

[Docket No. ER00-2334-000]

Take notice that on April 28, 2000, The FirstEnergy Operating Companies (FirstEnergy) tendered for filing proposed Amendments to service agreements for Firm Point-to-Point Transmission Service and Non-Firm Point-to-Point Transmission Service between FirstEnergy and the Borough of Zelienople, Pa. (Zelienople). FirstEnergy states that the proposed Amendments established a distribution adder and a customer charge for transmission service to Zelienople. FirstEnergy has proposed to make each of the Amendments effective on April 1, 2000.

Comment date: May 19, 2000, in accordance with Standard Paragraph E at the end of this notice.

11. Great Bay Power Corporation

[Docket No. ER00-2335-000]

Take notice that on April 28, 2000, Great Bay Power Corporation (Great Bay) tendered for filing a Master Energy Purchase and Sale Agreement (Master Agreement) with Enron Power Marketing, Inc. (EPMI). Through the Master Agreement, Great Bay and EPMI set forth the terms and conditions upon which Great Bay will sell at wholesale and EPMI will buy, and upon which EPMI will sell at wholesale and Great Bay will buy, energy and/or capacity. The rates to be charged under the Master Agreement will be market-based rates. Great Bay has market-based rate authority under Docket No. ER96-726-000. Great Bay seeks to have the Master Agreement accepted for filing as a stand-alone rate schedule for Great Bay.

Great Bay requests an effective date of 30 days after this filing, May 28, 2000.

Comment date: May 19, 2000, in accordance with Standard Paragraph E at the end of this notice.

12. New England Power Pool

[Docket No. ER00-2336-000]

Take notice that on April 28, 2000, the New England Power Pool (NEPOOL) Participants Committee filed for acceptance a signature page to the New England Power Pool Agreement dated September 1, 1971, as amended, signed by Maine Skiing, Inc. (Maine Skiing). The NEPOOL Agreement has been designated NEPOOL FPC No. 2.

The Participants Committee states that the Commission's acceptance of Maine Skiing's signature page would permit NEPOOL to expand its membership to include Maine Skiing. The Participants Committee further states that the filed signature page does not change the NEPOOL Agreement in any manner, other than to make Maine Skiing a member in NEPOOL. The Participants Committee requests an effective date of May 1, 2000, for commencement of participation in NEPOOL by Maine Skiing.

Comment date: May 19, 2000, in accordance with Standard Paragraph E at the end of this notice.

13. New England Power Pool

[Docket No. ER00-2338-000]

Take notice that on April 28, 2000, the New England Power Pool (NEPOOL) Participants Committee tendered for filing for acceptance a signature page to the New England Power Pool Agreement dated September 1, 1971, as amended, signed by TransAlta Energy Marketing (U.S.) Inc. (TransAlta). The NEPOOL Agreement has been designated NEPOOL FPC No. 2.

The Participants Committee states that the Commission's acceptance of TransAlta's signature page would permit NEPOOL to expand its membership to include TransAlta. The Participants Committee further states that the filed signature page does not change the NEPOOL Agreement in any manner, other than to make TransAlta a member in NEPOOL. The Participants Committee requests an effective date of July 1, 2000, for commencement of participation in NEPOOL by TransAlta.

Comment date: May 19, 2000, in accordance with Standard Paragraph E at the end of this notice.

14. New England Power Pool

[Docket No. ER00-2339-000]

Take notice that on April 28, 2000, the New England Power Pool (NEPOOL) Participants Committee tendered for filing for acceptance a signature page to the New England Power Pool Agreement dated September 1, 1971, as amended, signed by Smart Energy.com, Inc. (SmartEnergy.com). The NEPOOL Agreement has been designated NEPOOL FPC No. 2.

The Participants Committee states that the Commission's acceptance of SmartEnergy.com's signature page would permit NEPOOL to expand its membership to include SmartEnergy.com. The Participants Committee further states that the filed signature page does not change the NEPOOL Agreement in any manner, other than to make SmartEnergy.com a member in NEPOOL. The Participants Committee requests an effective date of June 1, 2000, for commencement of participation in NEPOOL by SmartEnergy.com.

Comment date: May 19, 2000, in accordance with Standard Paragraph E at the end of this notice.

15. New England Power Pool

[Docket No. ER00-2340-000]

Take notice that on April 28, 2000, the New England Power Pool (NEPOOL) Participants Committee tendered for filing for acceptance a signature page to the New England Power Pool Agreement dated September 1, 1971, as amended, signed by WPS Energy Services, Inc. (WPS). The NEPOOL Agreement has been designated NEPOOL FPC No. 2.

The Participants Committee states that the Commission's acceptance of WPS's signature page would permit NEPOOL to expand its membership to include WPS. The Participants Committee further states that the filed signature page does not change the NEPOOL Agreement in any manner, other than to make WPS a member in NEPOOL. The Participants Committee requests an effective date of July 1, 2000, for commencement of participation in NEPOOL by WPS.

Comment date: May 19, 2000, in accordance with Standard Paragraph E at the end of this notice.

16. American Electric Power Service Corporation

[Docket No. ER00-2341-000]

Take notice that on April 28, 2000, the American Electric Power Service Corporation (AEPSC), tendered for filing executed Firm and Non-Firm Point-to-Point Transmission Service Agreements for Amerada Hess Corporation, Cinergy Capital & Trading, Inc., MIECO Inc., and Orion Power MidWest. The agreements are pursuant to the AEP Companies' Open Access Transmission Service Tariff (OATT). The OATT has been designated as FERC Electric Tariff Original Volume No. 4, effective July 9, 1996. AEPSC requests waiver of notice to permit the Service Agreements to be made effective for service billed on and after April 1, 2000.

AEPSC also requests termination on April 30, 2000, of firm and non-firm service agreements executed January 1, 1997, by Illinova Power Marketing, Inc. under AEP Companies' FERC Electric Tariff Original Volume No. 4. Dynegy Power Marketing, Inc., merger partner to Illinova Corporation, requested the termination of the service agreements.

A copy of the filing was served upon the Parties and the state utility regulatory commissions of Indiana, Kentucky, Michigan, Ohio, Tennessee, Virginia and West Virginia.

Comment date: May 19, 2000, in accordance with Standard Paragraph E at the end of this notice.

17. Duquesne Light Company

[Docket No. ER00-2342-000]

Take notice that on April 28, 2000, Duquesne Light Company tendered for filing proposed changes to the retail transmission rates in its Open Access Transmission Tariff. Duquesne has requested that the changes become effective as of the closing of its divestiture, expected to occur April 28, 2000.

A copy of this filing was served on the Pennsylvania Public Utility Commission and customers presently taking service under Duquesne's OATT.

Comment date: May 19, 2000, in accordance with Standard Paragraph E at the end of this notice.

18. Potomac Electric Power Company

[Docket No. ER00-2343-000]

Take notice that on April 28, 2000, Potomac Electric Power Company (Pepco), tendered for filing a service agreement pursuant to Pepco FERC Electric Tariff, Original Volume No. 5, entered into between Pepco and: Sempra Energy Trading Corp. An effective date of April 18, 2000 for this service agreement, with waiver of notice, is requested.

Comment date: May 19, 2000, in accordance with Standard Paragraph E at the end of this notice.

19. Kansas Gas and Electric Company

[Docket No. ER00-2344-000]

Take notice that on April 28, 2000, Kansas Gas and Electric Company (KGE) tendered for filing an Interconnection Agreement between KGE and Westar Generating II, Inc. KGE requests an effective date of June 1, 2000 or the date that Westar's facilities become commercially operational, whichever occurs later.

Comment date: May 19, 2000, in accordance with Standard Paragraph E at the end of this notice.

20. West Texas Utilities Company

[Docket No. ER00-2345-000]

Take notice that on April 28, 2000, West Texas Utilities Company (WTU), tendered for filing First Revised Exhibit A to Amendment No.1 to the Service Agreement between WTU and Tex-La Electric Cooperative of Texas, Inc. (Tex-La), under WTU's TR-1 Tariff. First Revised Exhibit A reflects a recent increase in Tex-La's purchases of power and energy from Southwestern Electric Power Company for certain Tex-La load in WTU's control area in the Electric Reliability Council of Texas.

WTU seeks an effective date of January 1, 2000 and, accordingly, seeks waiver of the Commission's notice requirements. Copies of the filing have been served on Tex-La and on the Public Utility Commission of Texas.

Comment date: May 19, 2000, in accordance with Standard Paragraph E at the end of this notice.

21. Niagara Mohawk

[Docket No. ER00-2346-000]

Take notice that on April 28, 2000, Niagara Mohawk tendered for filing with the Federal Energy Regulatory Commission an executed letter agreement as a supplement to a Transmission Service Agreement between Niagara Mohawk and PG&E Energy Trading—Power, L.P (PGET), designated as Rate Schedule No. 174. This letter agreement extends the termination date of Rate Schedule No. 174.

Niagara Mohawk has served copies of the filing upon New York Public Service Commission and PGET.

Comment date: May 19, 2000, in accordance with Standard Paragraph E at the end of this notice.

22. New England Power Pool

[Docket No.ER00-2347-000]

Take notice that on April 28, 2000, the New England Power Pool (NEPOOL) Participants Committee filed a Service Agreement for Through or Out Service or In Service pursuant to Section 205 of the Federal Power Act and 18 CFR 35.13 of the Commission's regulations.

Acceptance of this Service Agreement will recognize the provision of Firm In Service transmission to PG&E Energy Trading—Power LP, in conjunction with Regional Network Service, in accordance with the provisions of the NEPOOL Open Access Transmission Tariff filed with the Commission on December 31, 1996, as amended and supplemented. An effective date of May 1, 2000 for commencement of transmission service has been requested. Copies of this filing were sent to all NEPOOL members, the New England public utility commissioners and all parties to the transaction.

Comment date: May 19, 2000, in accordance with Standard Paragraph E at the end of this notice.

23. Westar Generating II, Inc.

[Docket No. ER00-2348-000]

Take notice that on April 28, 2000, in accordance with the provisions of Section 205(c) of the Federal Power Act and Section 35.12 of the Commission's Regulations, Westar Generating II, Inc. (Westar), tendered for filing Westar's FERC Electric Rate Schedule No. 1 governing sales of energy and capacity from its two combustive turbine generating facilities located near Colwich, Kansas to its affiliate Western Resources, Inc.

Westar seeks waiver of the Commission's sixty-day prior notice requirement and requests that the Rate Schedule be permitted to become effective on June 1, 2000, or on the date Westar's generating facilities become commercially operational, whichever occurs later.

Copies of the filing were served upon Western Resources, Inc. and the Kansas Corporation Commission.

Comment date: May 19, 2000, in accordance with Standard Paragraph E at the end of this notice.

24. West Texas Utilities Company and Central and South West Services, Inc.

[Docket No. ER00-1404-001]

Take notice that on April 28, 2000, West Texas Utilities Company (WTU) and Central and South West Services, Inc. (CSWS), tendered for filing revised unexecuted Interconnection Agreements between WTU and nine of WTU's cooperative customers under WTU's Wholesale Power Choice Tariff. This filing is made to comply with the Commission's March 30, 2000 order in which it directed WTU to revise the indemnification provisions of these Interconnection Agreements.

Copies of the filing have been served on the affected customers and the Public Utility Commission of Texas.

Comment date: May 19, 2000, in accordance with Standard Paragraph E at the end of this notice.

25. Allied Companies, LLC (AC)

[Docket No. ER00-2363-000]

Take notice that on April 28, 2000, Allied Companies, LLC (AC), petitioned the Commission for acceptance of AC Rate Schedule FERC No. 1; the granting of certain blanket approvals, including the authority to sell electricity at market-based rates; and the waiver of certain Commission regulations.

AC intends to engage in wholesale electric power and energy purchases and sales as a marketer. AC is not in the business of generating or transmitting electric power.

Comment date: May 19, 2000, in accordance with Standard Paragraph E at the end of this notice.

26. Pacific Gas and Electric Company

[Docket No. ER00-2360-000]

Take notice that on April 28, 2000, Pacific Gas and Electric Company (PG&E) tendered for filing a new Reliability Services Tariff (RS Tariff) and corresponding amendments to PG&E's Transmission Owner Tariff on file with the Commission. This filing establishes wholesale and retail rates for the recovery of reliability charges that the California Independent System Operator Corporation (ISO) imposes on PG&E. PG&E requests an effective date of June 28, 2000. However, PG&E states that it hereby provides notice that it may be necessary to recover such costs for an earlier period depending on subsequent rulings of the Public Utilities Commission of the State of California.

Copies of this filing have been served upon the California Public Utilities Commission, all affected customers and parties designated on the Restricted Service List compiled by the Federal Energy Regulatory Commission in FERC Docket Nos. ER99-4323-000 and ER00-2075-000 and the CAISO.

Comment date: May 19, 2000, in accordance with Standard Paragraph E at the end of this notice.

27. New England Power Pool

[Docket No. ER00-2337-000]

Take notice that on April 28, 2000, the New England Power Pool (NEPOOL) Participants Committee tendered for filing for acceptance a signature page to the New England Power Pool Agreement dated September 1, 1971, as amended, signed by MHI Inc. (MHI). The NEPOOL Agreement has been designated NEPOOL FPC No. 2.

The Participants Committee states that the Commission's acceptance of MHI's signature page would permit NEPOOL to expand its membership to include MHI. The Participants Committee further states that the filed signature page does not change the NEPOOL Agreement in any manner, other than to make MHI a member in NEPOOL. The Participants Committee requests an effective date of May 1, 2000, for commencement of participation in NEPOOL by MHI.

Comment date: May 19, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-12078 Filed 5-12-00; 8:45 am]

BILLING CODE 6717-01-P